DEPARTMENT OF COMMERCE

Census Bureau

[Docket No. 060606154-6154-01]

Privacy Act of 1974: System of Records

AGENCY: U.S. Census Bureau, Commerce.

ACTION: Notice of New Privacy System of Records: COMMERCE/CENSUS-10, American Community Survey.

SUMMARY: In accordance with the Privacy Act of 1974, as amended, 5 U.S.C. 552a(e)(4) and (11), the Department of Commerce is issuing notice of intent to establish a new system of records under COMMERCE/CENSUS-10, American Community Survey.

DATES: To be considered, written comments must be submitted on or before July 31, 2006. Unless comments are received, the amendments to the system of records will become effective as proposed on the date of publication of a subsequent notice in the Federal Register.

ADDRESSES: Written comments may be sent to Gerald W. Gates, Chief Privacy Officer, U.S. Census Bureau, Washington, DC 20233. Comments may be submitted electronically to the following electronic mail address: Dir.Privacy.Office@Census.Gov.

FOR FURTHER INFORMATION CONTACT: Gerald W. Gates, Chief Privacy Officer, U.S. Census Bureau, Washington, DC 20233, 301-763-2515.

SUPPLEMENTARY INFORMATION: This notice announces the Department's proposal for a new system of records under the Privacy Act. The system is entitled “American Community Survey.” The American Community Survey (ACS) testing (demonstration period) occurred between 1996-2004. During that time period, the survey was conducted under the authority of Title 13, Section 182 (Periodic Censuses and Surveys), and therefore is considered to be covered under the Privacy Act system of records, CENSUS-3, Individual and Household Statistical Surveys and Special Studies Records. In 2004, the ACS was fully implemented as a Decennial Census production activity and as such, was conducted under the authority of Title 13, Section 141 (Decennial Census Activities). An amendment was issued to include the ACS in the existing Privacy Act system of records, CENSUS-5, Population and Housing Census Records of the 2000 Census. Although the production version is being conducted under Decennial Census authority Title 13, Section 141, the Census Bureau has determined that the ACS should have a separate systems notice, CENSUS-10, American Community Survey. The American Community Survey is an ongoing monthly survey of about 250,000 households and an annual sample of approximately 3 million residential addresses in the 50 states and District of Columbia; and another 36,000 residential addresses in Puerto Rico each year.

COMMERCE/CENSUS-10

System Name:

COMMERCE/CENSUS-10, American Community Survey.

Security Classification:

None.

System Location:

U.S. Census Bureau, Federal Building 3, Washington, DC 20233; Bureau of the Census, Bowie Computer Center, 17101 Melford Boulevard, Bowie, Maryland 20715.

Categories of Individuals Covered by the System:

All persons counted during the American Community Survey. Participation in the American Community Survey is mandatory.

Categories of Records in the System:

Name, address, telephone number, age, sex, relationships, race, Hispanic origin, housing tenure, marital status, income and employment (income; labor force status; industry; occupation, and class of worker; work status last year; and veteran status); education (school enrollment and educational attainment); origins and language (including ancestry; place of birth; citizenship, and year entry; and language spoken at home); residence five years ago; disability; grandparents as care-givers; place of work and journey to work. In addition, physical characteristics of housing may include the year built, units in structure, number of rooms, number of bedrooms, kitchen facilities, plumbing facilities, telephone service availability, heating fuel, year moved to unit, and farm residence; and vehicles available. Financial characteristics of housing may include home value, selected monthly owner costs, and rent.

Authority for Maintenance of the System:

13 U.S.C. 141 and 193.

Purpose(s):

The American Community Survey records are maintained to perform methodological evaluations and enhancements for data collection and quality control studies; and to undertake linkages with survey and administrative data for statistical projects as authorized by law and the U.S. Census Bureau.

Routine Uses of Records Maintained in the System, Including Categories of Users and the Purposes of Such Uses:

None. These records are maintained and used solely for statistical purposes and are confidential under Title 13 of the U.S.C. Sections 9 and 214. Publications do not contain data that could identify any particular household or individual.

Policies and Practices for Storing, Retrieving, Accessing, Retaining, and Disposing of Records in the System:

Storage:

Magnetic tape, on-line disk storage, CD-ROMs/DVD, server, and hard disk.

Retrievability:

Information may be retrieved by name and address. Name and address information are maintained separately from corresponding survey data for privacy and confidentiality purposes.

Safeguards:

The U.S. Census Bureau is committed to respecting respondent privacy and protecting confidentiality. Though the Data Stewardship Program, we have implemented management, operational and technical controls and practices to ensure high-level data protection to respondents of our census and surveys: (1) All U.S. Census Bureau sworn individuals are subject to the restrictions, penalties, and prohibitions of Title 13 of the U.S.C., and all employees are annually certified through training concerning the confidentiality of data; (2) data sets released by the U.S. Census Bureau have been subjected to and have successfully met criteria established by an internal Disclosure Review Board to ensure no personally identifiable data is released; (3) an unauthorized browsing policy protects respondent information from casual or inappropriate use by any person with access to Title 13 protected data; and (4) all computer systems that maintain sensitive information are in compliance with Common Criteria auditing, which monitors all read, write, create, and delete access to restricted data.

Retention and Disposal:

American Community Survey respondent data, including personally identifying data, are captured as images suitable for computer processing. Original data sources are destroyed, according to the disposal procedures for Title 13 (“census confidential”) records, after confirmation of successful data capture and data transmission to U.S. Census Bureau headquarters. Personally identified data are scheduled for permanent retention.

System Manager(s) and Address:

Associate Director for Decennial Census, U.S. Bureau of the Census, Federal Building 3, Washington, DC 20233.

Notification Procedure:

None.

Records Access Procedures:

None.

Contesting Records Procedures:

None.

Records Source Categories:

U.S. Census Bureau surveys.

Exemptions Claimed for the System:

Pursuant to 5 U.S.C. 552a (k)(4), this system of records is exempted from the notification, access and contest requirements of the agency procedures (under 5 U.S.C. 552a (c)(3), (d), (e)(1), (e)(4)(G), (H) and (I), and (f)). This exemption is applicable as data are maintained by the U.S. Census Bureau solely as statistical records as required under Title 13 U.S.C. and are not used in whole or in part in making any determination about an identifiable individual. This exemption is made in accordance with the Department's rules, which appear in 15 CFR part 4b.

Dated: June 16, 2006.
Brenda Dolan,
Departmental Freedom of Information and Privacy Act Officer.

[FR Doc. 06-5786 Filed 6-28-06; 8:45 am]

BILLING CODE 3510-07-P